DEPARTMENT OF LABOR

Office of the Secretary

Agency Information Collection Activities; Submission for OMB Review; Comment Request; Davis-Bacon Certified Payroll

ACTION: Notice of availability; request for comments.

SUMMARY: The Department of Labor (DOL) is submitting this Wage and Hour Division (WHD)-sponsored information collection request (ICR) to the Office of Management and Budget (OMB) for review and approval in accordance with the Paperwork Reduction Act of 1995 (PRA). Public comments on the ICR are invited.

DATES: The OMB will consider all written comments that agency receives on or before April 19, 2021.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: The Davis-Bacon and related Acts (DBRA) require the application of Davis-Bacon labor standards to federal and federally assisted construction. The Copeland Act (40 U.S.C. 3145) requires the Secretary of Labor to prescribe reasonable regulations for contractors and subcontractors engaged in construction work subject to Davis-Bacon labor standards. While the federal contracting or assistance-administering agencies have a primary responsibility for enforcement of Davis-Bacon labor standards, Reorganization Plan Number 14 of 1950 assigns to the Secretary of Labor responsibility for developing government-wide policies, interpretations and procedures to be observed by the contracting and assisting agencies, in order to assure coordination of administration and consistency of DBRA enforcement. The Copeland Act provision cited above specifically requires the regulations to “include a provision that each contractor and subcontractor each week must furnish a statement on the wages paid each employee during the prior week.” This requirement is implemented by 29 CFR 3.3 and 3.4 and the standard Davis-Bacon contract clauses set forth at 29 CFR 5.5. Regulations 29 CFR 5.5(a)(3)(ii)(A) requires contractors to submit weekly a copy of all payrolls to the federal agency contracting for or financing the construction project. If the agency is not a party to the contract, the contractor will submit the payrolls to the applicant, sponsor, or owner, as the case may be, for transmission to the contracting agency. This same section requires that the payrolls submitted shall set out accurately and completely the information required to be maintained under 29 CFR 5.5(a)(3)(i), except that full social security numbers and home addresses shall not be included on weekly transmittals, and instead, the payrolls shall only need to include an individually identifying number for each employee (e.g., the last four digits of the employee's social security number). The required weekly payroll information may be submitted in any form desired. Optional Form WH- 347 is available for this purpose from the Wage and Hour Division website at https://www.dol.gov/sites/dolgov/files/WHD/legacy/files/wh347.pdf. The regulations at 29 CFR 3.3(b) require each contractor to furnish weekly a signed “Statement of Compliance” accompanying the payroll indicating the payrolls are correct and complete and that each laborer or mechanic has been paid not less than the proper Davis-Bacon Act prevailing wage rate for the work performed. The weekly submission of a properly executed certification, with the prescribed language set forth on page 2 of Optional Form WH-347, satisfies the requirement for submission of the required “Statement of Compliance”. Id. at §§ 3.3(b), 3.4(b), and 5.5(a)(3)(ii)(B). Regulations 29 CFR 3.4(b) and 5.5(a)(3)(i) require contractors to maintain these records for three years after completion of the work.

For additional substantive information about this ICR, see the related notice published in the Federal Register on August 25, 2020 (85 FR 52365).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-MSHA.

Title of Collection: Davis-Bacon Certified Payroll.

OMB Control Number: 1235-0008.

Affected Public: Businesses or other for-profits institutions.

Total Estimated Number of Respondents: 86,898.

Total Estimated Number of Responses: 7,994,616.

Total Estimated Annual Time Burden: 7,461,642 hours.

Total Estimated Annual Other Costs Burden: $1,071,368.

(Authority: 44 U.S.C. 3507(a)(1)(D))

Dated: March 11, 2021.
Anthony May,
Management and Program Analyst.

[FR Doc. 2021-05586 Filed 3-17-21; 8:45 am]

BILLING CODE 4510-27-P